INTERNATIONAL TRADE COMMISSION

[Investigation No. 337-TA-1156]

Certain LED Packages Containing PFS Phosphor and Products Containing Same; Commission Determination Not To Review an Initial Determination Granting a Motion To Terminate the Investigation Based on a Stipulated Consent Order and Settlement Agreement; Issuance of Consent Order; Termination of the Investigation

AGENCY: U.S. International Trade Commission.

ACTION: Notice.

SUMMARY: Notice is hereby given that the U.S. International Trade Commission has determined not to review an initial determination (“ID”) (Order No. 6) issued by the presiding administrative law judge (“ALJ”), granting a joint motion to terminate the investigation based on a stipulated consent order and a settlement agreement. The Commission has also determined to issue a consent order and to terminate the investigation.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 16, 2019, based on a complaint filed by Current Lighting Solutions, LLC of East Cleveland, Ohio; General Electric Co. of Boston, Massachusetts; and Consumer Lighting (U.S.), LLC d/b/a GE Lighting of East Cleveland, Ohio (together, “Complainants”). 84 FR 22164. The complaint, as supplemented, alleges violations of section 337 of the Tariff Act of 1930, as amended, 19 U.S.C. 1337, in the importation into the United States, the sale for importation, and the sale within the United States after importation of certain LED packages containing PFS phosphor and products containing same by reason of infringement of certain claims of U.S. Patent Nos. 7,497,973 and 9,680,067. Id. The Commission's notice of investigation named as respondents Cree, Inc. of Durham, North Carolina; Cree Hong Kong Ltd. of Hong Kong; and Cree Huizhou Solid State Lighting Co. Ltd. of Huizhou, China (together, “Cree”). Id. at 22165. The Office of Unfair Import Investigations is not participating in this investigation. Id.

On June 20, 2019, Complainants and Cree filed a joint motion to terminate the investigation based on a stipulated consent order and a settlement agreement. No responses to the joint motion were received.

On July 10, 2019, pursuant to Commission Rules 210.21(b) and (c) (19 CFR 210.21(b) and (c)), the ALJ issued the subject ID, granting the motion and terminating the investigation. No petitions for review of the ID were received.

The Commission has determined not to review the subject ID, and has determined to issue a consent order. This investigation is hereby terminated.

The authority for the Commission's determination is contained in section 337 of the Tariff Act of 1930, as amended (19 U.S.C. 1337), and in part 210 of the Commission's Rules of Practice and Procedure (19 CFR part 210).

By order of the Commission.
Issued: August 6, 2019.
Lisa Barton,
Secretary to the Commission.

[FR Doc. 2019-17104 Filed 8-8-19; 8:45 am]

BILLING CODE 7020-02-P